INTERNATIONAL TRADE COMMISSION

[Investigation No. 731-TA-1125 (Second Review)]

Electrolytic Manganese Dioxide From China; Determination

On the basis of the record ¹ developed in the subject five-year review, the United States International Trade Commission (“Commission”) determines, pursuant to the Tariff Act of 1930 (“the Act”), that revocation of the antidumping duty order on electrolytic manganese dioxide from China would be likely to lead to continuation or recurrence of material injury to an industry in the United States within a reasonably foreseeable time.

¹ The record is defined in sec. 207.2(f) of the Commission's Rules of Practice and Procedure (19 CFR 207.2(f)).

Background

The Commission instituted this review on December 2, 2019 (84 FR 66005) and determined on March 6, 2020 that it would conduct an expedited review (85 FR 29973, May 19, 2020).

The Commission made this determination pursuant to section 751(c) of the Act (19 U.S.C. 1675(c)). It completed and filed its determination in this review on June 19, 2020. The views of the Commission are contained in USITC Publication 5069 (June 2020), entitled Electrolytic Manganese Dioxide from China, Investigation No. 731-TA-1125 (Second Review).

By order of the Commission.
Issued: June 19, 2020.
Lisa Barton,
Secretary to the Commission.

[FR Doc. 2020-13673 Filed 6-24-20; 8:45 am]

BILLING CODE 7020-02-P